DEPARTMENT OF DEFENSE

Office of the Secretary

Federal Advisory Committee; Defense Advisory Board for Employer Support of the Guard and Reserve; Defense Advisory Board for Employer Partnership; Charter Revision

AGENCY: Department of Defense (DoD).

ACTION: Federal advisory committee charter.

SUMMARY: Under the provisions of the Federal Advisory Committee Act of 1972, (5 U.S.C. Appendix, as amended), the Sunshine in the Government Act of 1976 (5 U.S.C. 552b, as amended), and 41 CFR 102-3.65, the Department of Defense gives notice that it intends to revise the charter for the Defense Advisory Board for Employer Support of the Guard and Reserve. Specifically, the Department is: changing the name of the committee from the Defense Advisory Board for Employer Support of the Guard and Reserve to the Defense Advisory Board for Employer Partnership; changing the charter's Objective and Scope from examining matters arising from the military service obligations of members of the National Guard and Reserve and the impact on their civilian employment to providing independent advice and recommendations concerning the impact of military service as it applies to civilian employers; and changing the Agency or Official to Whom the Committee Reports to include the Under Secretary of Defense (Personnel and Readiness).

FOR FURTHER INFORMATION CONTACT: Jim Freeman, DoD Committee Management Office, 703-601-6128.

SUPPLEMENTARY INFORMATION: The Defense Advisory Board for Employer Partnership, pursuant to 41 CFR 102-3.50(d), is a discretionary Federal advisory committee established to provide the Secretary of Defense through the Under Secretary of Defense (Personnel and Readiness) and the Assistant Secretary of Defense (Reserve Affairs), with independent advice and recommendations concerning the impact of military service as it applies to civilian employers.

Pursuant to DoD policy, the Under Secretary of Defense (Personnel and Readiness) and Assistant Secretary of Defense (Reserve Affairs) is authorized to act upon the Board's advice and recommendations.

The Board shall be comprised of no more than 15 members appointed by the Secretary of Defense.

Board members shall be appointed by the Secretary of Defense and their appointments shall be renewed on an annual basis. Members who are not full-time federal officers or employees, shall be appointed as experts and consultants under the authority of 5 U.S.C 3109, and serve as Special Government Employees.

Board members, with approval of the Secretary of Defense, may serve a term of three years on the Board; however, no Board member may serve more than six years on the Board.

The Board shall have two Co-Chairpersons. One Co-Chairperson shall be the National Chair of the Employer Support of the Guard and Reserve. This ex-officio appointment shall have the same voting rights as the other Board members. The second Co-Chairperson shall be appointed by the Assistant Secretary of Defense (Reserve Affairs) from the Board membership at large. To ensure continuity, the terms of the Co-Chairpersons shall expire during alternating years.

With the exception of travel and per diem for official travel, Board members shall serve without compensation.

The Board shall meet at the call of the Designated Federal Officer, in consultation with the Chairperson and the Board's Co-Chairpersons. The estimated number of Board meetings is two per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

With DoD approval, the Board is authorized to establish subcommittees, as necessary and consistent with its mission. These subcommittees or working groups shall operate under the provisions of the Federal Advisory Committee Act of 1972, the Government in the Sunshine Act of 1976 (5 U.S.C. 552b, as amended), and other appropriate Federal regulations.

Such subcommittees or workgroups shall not work independently of the chartered Board, and shall report all their recommendations and advice to the Board for full deliberation and discussion. Subcommittees or workgroups have no authority to make decisions on behalf of the chartered Board nor can they report directly to the Department of Defense or any Federal officers or employees who are not Board members.

Subcommittee members, who are not members of the parent committee, shall be appointed in the same manner as the Board members.

Pursuant to 41 CFR 102-3.105(j) and 102-3.140, the public or interested organizations may submit written statements to the Defense Advisory Board for Employer Partnership membership about the committee's mission and functions. Written statements may be submitted at any time or in response to the stated agenda of planned meeting of the Defense Advisory Board for Employer Partnership.

All written statements shall be submitted to the Designated Federal Officer for the Defense Advisory Board for Employer Partnership, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Defense Advisory Board for Employer Partnership. The Designated Federal Officer, at that time, may provide additional guidance on the submission of written statements that are in response to the stated agenda for the planned meeting in question.

Dated: February 4, 2010.
Mitchell S. Bryman,
Alternate OSD Federal Register Liaison Officer, Department of Defense.

[FR Doc. 2010-2752 Filed 2-8-10; 8:45 am]

BILLING CODE 5001-06-P